DEPARTMENT OF ENERGY

Federal Energy Regulatory Commission

[Docket No. CP03-51-000]

Natural Gas Pipeline Company of America; Errata Notice

March 6, 2003.

In the Commission's Notice of Application issued February 24, 2003, in the above proceeding, on page 1, paragraph 3 of the notice, in the last sentence, change “requests” to “does not request”. The sentence should read: “Natural states that the cost of the project is approximately $2.8 million and Natural does not request rolled-in rate treatment for the new facilities”.

Magalie R. Salas,
Secretary.

[FR Doc. 03-6020 Filed 3-12-03; 8:45 am]

BILLING CODE 6717-01-P